FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—11/17/2008
20090082 | Bank of America Corporation | BlackRock, Inc | BlackRock, Inc.
20090098 | Gemalto N.V | Wavecom S.A | Wavecom S.A.
20090101 | Redpoint Ventures I, L.P | HomeAway, Inc | HomeAway, Inc.
20090102 | Electric Power Development Company, Ltd | Harbinger Independent Power Fund II | Equus GP Holdco LLP.
|  |  | Equus LP Holdco LLC.
|  |  | Equus Power I, LP.
|  |  | HD Freeport LLC.
|  |  | Pinelawn Power LLC.
20090103 | Manulife Financial Corporation | Harbinger Independent Power Fund II, LLC | Equus GP Holdco LLC.
|  |  | Equus GP Holdco LLP.
|  |  | Equus Power I, LP.
|  |  | HD Freeport LLC.
|  |  | Pinelawn Power LLC.
20090104 | Golden Gate Capital Opportunity Fund, L.P | Harbinger Capital Partners Offshore Fund, I, Ltd | USS Holdings, Inc.
20090112 | Trian Star Trust | Wendy's/Arby's Group. Inc | Wendy's/Arby's Group, Inc.
20090113 | Trian Partners, L.P | Wendy's/Arby Group, Inc | Wendy's/Arby Group, Inc.
20090118 | Blackstone Capital Partners III Merchant Banking Fund Services, Inc | Republic Services, Inc | Republic Services, Inc.
20090119 | Dayton-Cox Trust A | Comcast Corporation | SpectrumCo LLC.
20090120 | Madrone Partners, LP | Solyndra, Inc | Solyndra, Inc.
TRANSACTIONS GRANTED EARLY TERMINATION—11/18/2008
20090095 | Walgreen Co | McKesson Corporation | ivpcare, inc.
|  |  | McKesson Specialty Pharmaceuticals LLC.
20090096 | Novartis AG | Nektar Therapeutics | NektarTherapeutics.
TRANSACTIONS GRANTED EARLY TERMINATION—11/21/2008
20090116 | CHS Inc | Agri Co-op | Agri Co-op.
20090121 | CenturyTel, Inc | Embarq Corporation | Embarq Corporation.
20090126 | Plains Capital Corporation | First Southwest Partners, Ltd | First Southwest Holdings, Inc.
20090128 | Eldorado Resorts, LLC | Tropicana Entertainment Holdings, LLC | Aztar Indiana Gaming Company, LLC.
20090129 | Giorgio Armani S.p.A | Ong Beng Seng | Presidio Holdings Limited.
20090130 | GenStar Capital Partners V, L.P | LTCG Holdings Corp | Long Term Care Group, Inc.
|  |  | Nation's Care, LLC.
20090133 | Citigroup, Inc. | Schafer Corporation | Schafer Corporation.
TRANSACTIONS GRANTED EARLY TERMINATION 11/24/2008
20090123 | Bank of America Corporation | Markit Group Holdings Limited | Markit Group Holdings Limited.
TRANSACTIONS GRANTED EARLY TERMINATION—11/26/2008
20090125 | Lloyds TSB Group plc | HBOS plc | HBOS plc.
20090132 | Affymetrix, Inc | Panomics, Inc | Panomics, Inc.
TRANSACTIONS GRANTED EARLY TERMINATION—11/28/2008
20090135 | Green Equity Investors Side V, L.P | Whole Foods Market, Inc | Whole Foods Market, Inc.
20090136 | Green Equity Investors V, L.P | Whole Foods Market, Inc | Whole Foods Market, Inc.

FOR FURTHER INFORMATION CONTACT: Sandra M. Peay, Contact Representative; or Renee Hallman, Contact Representative, Federal Trade Commission, Premerger Notification Office, Bureau of Competition, Room H-303, Washington, DC 20580, (202) 326-3100.

By Direction of the Commission.
Donald S. Clark,
Secretary.

[FR Doc. E8-29119 Filed 12-9-08; 8:45 am]

BILLING CODE 6750-01-M